DEPARTMENT OF ENERGY

Federal Energy Regulatory Commission

[Docket No. PR03-16-001]

Cypress Gas Pipeline, LLC; Notice of Refund Report

February 5, 2004.

Take notice that on January 20, 2004, Cypress Gas Pipeline, LLC (Cypress) tendered for filing a refund report showing the refunds made to affected customers in connection with the Commission approved Stipulation and Agreement filed by Cypress on November 25, 2003. Cypress states that on December 18, 2003, it had issued all required refunds on all amounts collected above the approved settlement rates.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number including the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Comments Date: February 20, 2004.

Linda Mitry,
Acting Secretary.

[FR Doc. E4-403 Filed 2-25-04; 8:45 am]

BILLING CODE 6717-01-P